DEPARTMENT OF LABOR

Veterans' Employment and Training Service

Agency Information Collection Activities: Extension of Existing Information Collection; Comment Request

AGENCY: Veterans' Employment and Training Service, Labor.

ACTION: 60 Day Notice Of Information Collection For Review; Federal Contractor Veterans' Employment Reports Vets-100 And Vets-100A; OMB Control No. 1293 0005.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Veterans' Employment and Training Service (VETS) is soliciting comments concerning the proposed extension of the currently approved information collection request for the “Federal Contractor Veterans' Employment Report VETS-100” and the “Federal Contractor Veterans' Employment Report VETS-100A.” A copy of the proposed information collection request can be obtained by contacting the office listed below in the ADDRESSES section of this Notice. There have been no changes to the current VETS-100 and the VETS-100A Reports. Each report has the same number of reporting elements.

DATES: Written comments must be submitted to the office listed in the ADDRESSES section below on or before May 5, 2014.

ADDRESSES: Comments are to be submitted to William Kenan Torrans, Deputy Director for the Division of Investigation and Compliance, VETS, U.S. Department of Labor, Room S-1316, 200 Constitution Avenue NW., Washington, DC 20210. Electronic transmission is the preferred method for submitting comments. Email may be sent to FCP-PRA-04-VETS@dol.gov. Include “VETS-100” or “VETS-100A”in the subject line of the message. Written comments of 10 pages or fewer also may be transmitted by facsimile to (202) 693-4755 (this is not a toll free number). Receipt of submissions, whether by U.S. Mail, email or FAX transmittal, will not be acknowledged; however, the sender may request confirmation that a submission has been received, by telephoning VETS at (202) 693-4731 (VOICE) or (202) 693-4760 (TTY/TDD) (these are not toll-free numbers).

SUPPLEMENTARY INFORMATION:

I. Background

The Vietnam Era Veterans' Readjustment Assistance Act of 1974 (“VEVRAA”), 38 U.S.C. 4212(d), requires Federal contractors and subcontractors subject to the Act's affirmative action provisions in 38 U.S.C. 4212(a) to track and report annually to the Secretary of Labor the number of employees in their workforces, by job category and hiring location, who belong to the specified categories of covered veterans. VETS maintains two sets of regulations to implement the reporting requirements under VEVRAA, and uses two different forms for providing the required information on the employment of covered veterans.

The regulations set forth in 41 CFR part 61-250 require contractors that have a Government contract of $25,000 or more entered into before December 1, 2003, to use the Federal Contractor Veterans' Employment Report VETS-100 (“VETS-100 Report”) form for reporting information on the number of covered veterans in their workforces.

The regulations set forth in 41 CFR part 61-300 implement amendments to the reporting requirements under VEVRAA that were made by the Jobs for Veterans Act (JVA) (Pub. L. 107-288) enacted in 2002. The JVA amended VEVRAA by: (1) Increased from $25,000 to $100,000, the dollar amount of the contract that subjects a Federal contractor to the requirement to report on veterans' employment; and (2) changed the categories of covered veterans under VEVRAA, and thus the categories of veterans that contractors are required to track and report on annually.

The regulations in 41 CFR part 61-300 require contractors with a Government contract entered into or modified on or after December 1, 2003, in the amount of $100,000 or more to use the Federal Contractor Veterans' Employment Report VETS-100A (“VETS-100A Report”) form for reporting information on their employment of covered veterans under VEVRAA.

Both the VETS-100 and VETS-100A Reports are currently approved under OMB No. 1293-0005.

II. Desired Focus of Comments

Currently VETS is soliciting comments concerning a request to extend the currently approved information collection request. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval of the extension of the currently approved information collection request in order to carry out its responsibilities to administer and enforce compliance with the contractor reporting requirements under VEVRAA, as amended by the JVA.

Type of Review: Extension without change of currently approved collection.

Agency: Veterans' Employment and Training Service.

Title: Federal Contractor Veterans' Reports VETS-100 and VETS-100A.

OMB Number: 1293-0005.

Affected Public: Government contractors and subcontractors with a contract of $25,000 or more entered into before December 1, 2003, and Government contractors and subcontractors with a contract of $100,000 or more entered into or modified on or after December 1, 2003, that are required to comply with the affirmative action provisions of the Vietnam Era Veterans' Readjustment Assistance Act.

Total Respondents: 20,700.

Total Annual Responses: 390,000.

Average Time per Response:

• Electronic Submission—30 minutes

• Paper Submission—one hour

Total Burden Hours: 198,900.

Frequency: Annually.

Total Burden Cost (capital/startup): $0.

Total Burden Cost (operating/maintaining): $0. The information contractors report about their veterans' employment is collected and maintained in the normal course of business. There are no requirements for contractors to have any kind of equipment to be able to comply with this collection of information.

Comments submitted in response to this notice will be summarized and/or included in the request for Office of Management and Budget approval of the information collection request; they will also become a matter of public record.

Signed in Washington, DC, this 25th day of February 2014.
Keith Kelly,
Assistant Secretary of Labor for Veterans' Employment and Training Service.

[FR Doc. 2014-04870 Filed 3-4-14; 8:45 am]

BILLING CODE 4510-79-P